DEPARTMENT OF COMMERCE

National Oceanic and Atmospheric Administration

[I.D. 052402B]

Endangered and Threatened Species; Take of Anadromous Fish

AGENCY: National Marine Fisheries Service (NMFS), National Oceanic and Atmospheric Administration (NOAA), Commerce.

ACTION: Issuance of permit 1387.

SUMMARY: Notice is given that NMFS has issued permit 1387 to Thomas Gaffney, Special Agent of the NMFS Office of Law Enforcement in Santa Maria, California, that authorizes takes of Endangered Species Act-listed anadromous fish species for enhancement purposes (rescue and salvage), subject to certain conditions set forth in this document.

ADDRESSES: The applications and related documents are available for review in the following office, by appointment: Protected Resources Division, NMFS, 777 Sonoma Avenue, Room 325, Santa Rosa, California 95404-6528.

FOR FURTHER INFORMATION CONTACT: Daniel Logan, Protected Resources Division, NMFS, Santa Rosa, California, (707) 575-6053, or e-mail: dan.logan@noaa.gov.

SUPPLEMENTARY INFORMATION:

Species Covered in this Notice

The following species and evolutionarily significant units (ESUs) are covered in this notice: Southern California steelhead (Oncorhynchus mykiss) ESU.

Issuance of this permit, as required by the ESA, was based on a finding that such issuance (1) was applied for in good faith; (2) would not operate to the disadvantage of the listed species which are the subject of the permit; and (3) is consistent with the purposes and policies set forth in section 2 of the ESA. This permit was issued in accordance with, and is subject to, part 222 of title 50 CFR, the NMFS’ regulations governing listed species permits.

Thomas Gaffney has monitored water quality in Mission Creek and has noted that conditions are deteriorating rapidly and that the stream is drying. Gaffney, having observed steelhead in residual pools in the stream, and dead steelhead in some pools, believes that the remaining live steelhead cannot leave the pools and will perish without intervention. The NMFS SWR believes that, because the health and life of the animals are in danger, the issuance of permit 1387 is an urgent action and sufficient to qualify as an emergency situation consistent with CFR 222.303(g).

Permit Issued

Permit 1387 was issued on May 22, 2002. This permit includes the following take limits: (1) Thomas Gaffney is authorized to rescue up to 250 ESA-listed juvenile Southern California steelhead from habitat areas where conditions are likely to result in imminent mortality; (2) Thomas Gaffney is authorized to transport and release rescued steelhead into NMFS-approved habitat areas within the same watershed where the chance of long-term survival is increased; (3) Thomas Gaffney is authorized to take tissue samples from all rescued fish; and (4) the expiration date of Permit 1387 is December 31, 2002.

Dated: May 31, 2002.
Phil Williams,
Acting Chief, Endangered Species Division, Office of Protected Resources, National Marine Fisheries Service.

[FR Doc. 02-14237 Filed 6-5-02; 8:45 am]

BILLING CODE 3510-22-S